DEPARTMENT OF LABOR

Employment and Training Administration

[TA-W-55,820A]

Thermal & Interior, Vandalia Operations Of Delphi Corporation, Vandalia, OH; Notice of Termination of Investigation

Pursuant to Section 221 of the Trade Act of 1974, an investigation was initiated on October 19, 2004, in response to a petition filed by the United Steelworkers of America on behalf of workers at Thermal & Interior Vandalia Operations of Delphi Corporation, Vandalia, Ohio. Workers were engaged in employment related to the production of W-car door trim and air bag covers.

The workers were separated from the subject firm more than one year prior to the date on the petition. Section 223(b) of the Act specifies that no certification may apply to any worker whose last separation occurred more than one year before the date of the petition. Consequently, further investigation in this case would serve no purpose, and the investigation has been terminated.

Signed in Washington, DC this 2nd day of December, 2004.
Elliott S. Kushner,
Certifying Officer, Division of Trade Adjustment Assistance.

[FR Doc. E4-3772 Filed 12-21-04; 8:45 am]

BILLING CODE 4510-30-P